DEPARTMENT OF HEALTH AND HUMAN SERVICES

Centers for Disease Control and Prevention

Advisory Committee for Injury Prevention and Control (ACIPC), Science and Program Review Subcommittee

In accordance with Section 10(a)(2) of the Federal Advisory Committee Act (Pub. L. 92-463), the Centers for Disease Control and Prevention (CDC) announces, the following meeting for the aforementioned committee and subcommittee:

Name: Science and Program Review Subcommittee (SPRS).

Times and Date: 11:30 a.m.-11:35 a.m., August 20, 2007 (Open). 11:35 a.m.-12:30 p.m., August 20, 2007 (Closed).

Place: CDC, Koger Center, Vanderbilt Building, Room 1006, 2939 Flowers Road, Atlanta, Georgia 30341-3724.

Purpose: The subcommittee provides advice on the needs, structure, progress, and performance of programs in the National Center for Injury Prevention and Control (NCIPC).

Matters To Be Discussed: The subcommittee will have a secondary review, discussion, and evaluation on the individual research grant and cooperative agreement applications submitted in response to the two Fiscal Year 2007 Requests for Applications (RFAs) related to the following individual research announcements: RFA-CE-05-020, Youth Violence Prevention through Community-Level Change; and RFA-CE-07-011, Multi-Level Parent Training Effectiveness Trial—Phase II (U49).

Following this meeting, the voting members of ACIPC will meet via teleconference to vote on the recommendations of the SPRS regarding the RFAs.

Name: Advisory Committee for Injury Prevention and Control.

Times and Date: 12:30 p.m.-12:55 p.m., August 20, 2007 (Open). 12:55 p.m.-1:30 p.m., August 20, 2007 (Closed).

Place: CDC, Koger Center, Vanderbilt Building, Room 1006, 2939 Flowers Road, Atlanta, Georgia 30341-3724.

Purpose: The committee advises and makes recommendations to the Secretary, Department of Health and Human Services, the Director, CDC, and the Director, NCIPC regarding feasible goals for the prevention and control of injury. The committee makes recommendations regarding policies, strategies, objectives, and priorities, and reviews progress toward injury prevention and control.

Matters To Be Discussed: Agenda items for the open portion include the call to order and introductions and request for public comments. The committee will vote on the results of the secondary review. This portion of the meeting will be closed to the public in accordance with the provisions set forth in section 552b(c)(4) and (b), title 5 U.S.C., and the Determination of the Acting Director, Management Analysis and Services Office, CDC pursuant to Public Law 92-463.

Agenda items are subject to change as priorities dictate.

For Further Information Contact: Ms. Amy Harris, Executive Secretary, ACIPC, NCIPC, CDC, 4770 Buford Highway, NE., M/S K61, Atlanta, Georgia 30341-3724, Telephone (770) 488-4936.

The Director, Management Analysis and Services Office, has been delegated the authority to sign Federal Register notices pertaining to announcements of meetings and other committee management activities, for both CDC and the Agency for Toxic Substances and Disease Registry.

Dated: July 17, 2007.
Elaine L. Baker,
Acting Director, Management Analysis and Services Office, Centers for Disease Control and Prevention.

[FR Doc. E7-14430 Filed 7-25-07; 8:45 am]

BILLING CODE 4163-18-P